DEPARTMENT OF EDUCATION

State Charter School Facilities Incentive Grants Program (CFDA Number: 84.282D)

AGENCY: Department of Education, Office of Innovation and Improvement.

ACTION: Notice; correction.

SUMMARY: We published a notice in the Federal Register on February 23, 2004 (69 FR 8318) inviting applications for new awards for fiscal year 2004 for the State Charter School Facilities Incentive Grants Program. We inadvertently omitted words from the text. This notice corrects that error.

Correction

In the Federal Register of February 23, 2004, in FR Doc. 04-3849, on page 8319, column 3, line 8, after the word “competition”, insert the words “for construction”.

FOR FURTHER INFORMATION CONTACT: Valarie Perkins or Jim Houser, U.S. Department of Education, 400 Maryland Avenue, SW., room 3C140, Washington, DC 20202-6140. Telephone: (202) 260-1924 or by e-mail: charter.facilities@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.gpoaccess.gov/nara/index.html.

Dated: March 5, 2004.
Nina Shokraii Rees,
Deputy Under Secretary for Innovation and Improvement.

[FR Doc. 04-5554 Filed 3-10-04; 8:45 am]

BILLING CODE 4000-01-P